DEPARTMENT OF COMMERCE

National Oceanic and Atmospheric Administration

RIN 0648-XF417

Schedules for Atlantic Shark Identification Workshops and Protected Species Safe Handling, Release, and Identification Workshops; Correction

AGENCY: National Marine Fisheries Service (NMFS), National Oceanic and Atmospheric Administration (NOAA), Commerce.

ACTION: Notice of public workshops; correction.

SUMMARY: NMFS cancelled the Atlantic Shark Identification workshop originally scheduled for September 7, 2017, in Panama City, FL, and the Protected Species Safe Handling, Release, and Identification workshop originally scheduled for September 13, 2017, also in Panama City, FL. The workshops were cancelled due to severe weather and damage resulting from Hurricane Irma. The workshops were announced in the Federal Register on June 8, 2017. NMFS has rescheduled the Atlantic Shark Identification workshop for November 30, 2017. NMFS has also rescheduled the Protected Species Safe Handling, Release, and Identification workshop for November 28, 2017.

DATES: The Atlantic Shark Identification workshop originally scheduled for September 7, 2017, in Panama City, FL, has been rescheduled to November 30, 2017, and the Protected Species Safe Handling, Release, and Identification workshop originally scheduled for September 13, 2017, in Panama City, FL, has been rescheduled to November 28, 2017. See SUPPLEMENTARY INFORMATION for further details.

ADDRESSES: The locations of the rescheduled workshops have not changed. The Atlantic Shark Identification workshop and the Protected Species Safe Handling, Release, and Identification workshop will be held in Panama City, FL. See SUPPLEMENTARY INFORMATION for further details.

FOR FURTHER INFORMATION CONTACT: Rick Pearson by phone: (727) 824-5399, or by fax: (727) 824-5398.

SUPPLEMENTARY INFORMATION: The workshop schedules, registration information, and a list of frequently asked questions regarding these workshops are posted on the Internet at: http://www.nmfs.noaa.gov/sfa/hms/compliance/workshops/index.html.

Correction

In the Federal Register of June 8, 2017, (82 FR 26670) in FR Doc. 2017-11923, on page 26670, in the third column, the date of the third Atlantic Shark Identification workshop listed under the heading “Workshop Dates, Times, and Locations” is corrected to read as follows:

3. November 30, 2017, 12 p.m.-4 p.m., LaQuinta Inn & Suites, 7115 Coastal Palms Boulevard, Panama City, FL 32408.

Also, in the Federal Register of June 8, 2017, (82 FR 26670) in FR Doc. 2017-11923, on page 26671, in the first column, the date of the sixth Protected Species Safe Handling, Release, and Identification workshop listed under the heading “Workshop Dates, Times, and Locations” is corrected to read as follows:

6. November 28, 2017, 9 a.m.-5 p.m., Hilton Garden Inn, 1101 North Highway 231, Panama City, FL 32405.

Authority: 16 U.S.C. 1801 et seq.

Dated: October 11, 2017.
Emily H. Menashes,
Acting Director, Office of Sustainable Fisheries, National Marine Fisheries Service.

[FR Doc. 2017-22441 Filed 10-16-17; 8:45 am]

BILLING CODE 3510-22-P